DEPARTMENT OF LABOR

Employment and Training Administration

[TA-W-64,448]

Scott Curtis Construction Company, Inc., Granite Falls, NC; Notice of Termination of Investigation

Pursuant to Section 221 of the Trade Act of 1974, as amended, an investigation was initiated on November 17, 2008 in response to a petition filed by a company official on behalf of workers at Scott Curtis Construction Company, Inc., Granite Falls, North Carolina. The workers at the subject facility build houses.

The petitioner has requested that the petition be withdrawn. Consequently, the investigation has been terminated.

Signed in Washington, DC, this 19th day of November 2008.
Richard Church,
Certifying Officer, Division of Trade Adjustment Assistance.

[FR Doc. E8-29174 Filed 12-9-08; 8:45 am]

BILLING CODE 4510-FN-P